FEDERAL MARITIME COMMISSION

[Petition P3-03]

Petition of United Parcel Service, Inc. for Exemption Pursuant to Section 16 of the Shipping Act of 1984 To Permit Negotiation, Entry and Performance of Service Contracts; Reopening of Comment Period; Oral Presentations

United Parcel Service, Inc. (“Petitioner”) has petitioned, pursuant to Section 16 of the Shipping Act of 1984, 46 U.S.C. app. 1715, and 46 CFR 502.67, for an exemption from the Shipping Act, to permit it to negotiate, enter into and perform service contracts. The period for the filing of comments in response to the petition closed on October 10, 2003.

The Commission has determined to re-open the comment period. Interested persons are requested to submit views or arguments in reply to the petition, or in reply to comments already received, no later than January 16, 2004. Comments shall consist of an original and 15 copies, and shall be directed to the Secretary, Federal Maritime Commission, 800 North Capitol Street, NW, Washington, DC 20573-0001. It is also requested that a copy be submitted in electronic form (WordPerfect, Word or ASCII) on diskette, or e-mailed to Secretary@fmc.gov.

The Commission has also determined to permit interested persons to make oral presentations in this proceeding. At the discretion of individual Commissioners, interested persons may request one-on-one meetings at which they may make presentations describing their views on the petition. Any meeting or meetings shall be completed before the close of the comment period. A summary or transcript of each oral presentation will be included in the record and must be submitted to the Secretary of the Commission within 5 days of the meeting. Persons wishing to make oral presentations should contact the Office of the Secretary to secure contact names and numbers for individual Commissioners.

The Commission has determined to waive the service requirements found at 46 CFR 502.114(b). Instead, copies of all filed comments, and copies of summaries or transcripts of oral presentations, may be viewed on the Commission's Web page at http://www.fmc.gov.

By the Commission.
Bryant L. VanBrakle,
Secretary.

[FR Doc. 03-28916 Filed 11-18-03; 8:45 am]

BILLING CODE 6730-01-P